DEPARTMENT OF AGRICULTURE

Office of the Secretary

Notice of the Specialty Crop Committee's Stakeholder Listening Session

AGENCY: Research, Education, and Economics, USDA.

ACTION: Notice of stakeholder listening session.

SUMMARY: The notice announces the Specialty Crop Committee's Stakeholder Listening Session. The document contained the wrong date for the meeting.

FOR FURTHER INFORMATION CONTACT: David Kelly, (202) 720-4421.

Correction

In the Federal Register of June 9, 2010, in FR Doc. 2010-13798, on pages 32735-32736, in the date section, correct to read as follows:

DATES: The Specialty Crop Committee will hold the stakeholder listening session on July 21st, 2010 from 9 a.m.-3 p.m.

Dated: June 10, 2010.
Yvette Anderson,
Federal Register Liaison Officer for Agriculture Research Service.

[FR Doc. 2010-14504 Filed 6-16-10; 8:45 am]

BILLING CODE P